FEDERAL ELECTION COMMISSION

Sunshine Act Notices

AGENCY: Federal Election Commission.

CANCELLATION OF PREVIOUSLY ANNOUNCED MEETING: Tuesday, October 17, 2000. Meeting closed to the public.

* * * * *

DATE & TIME: Tuesday, October 31, 2000 at 10 a.m.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Thursday, November 2, 2000 at 10 a.m.

PLACE: 999 E Street, NW., Washington, DC (ninth floor).

STATUS: This meeting will be open to the public.

ITEMS TO BE DISCUSSED: Correction and Approval of Minutes.

Draft Advisory Opinion 2000-24; Alaska Democratic Party by counsel, Neil Reiff.

Statements of Reasons—Requests to Deny Certification of Public Funds to Patrick J. Buchanan and Ezola Foster (LRA#598/599).

Notice of Disposition of Petition for Rulemaking Filed by the Project on Government Oversight.

Administrative Matters.

PERSON TO CONTACT FOR INFORMATION: Mr. Ron Harris, Press Officer, Telephone: (202) 694-1220.

Mary W. Dove,
Acting Secretary of the Commission.

[FR Doc. 00-27654 Filed 10-24-00; 11:49 am]

BILLING CODE 6715-01-M